INTERNATIONAL TRADE COMMISSION

[Inv. No. 337-TA-545]

In the Matter of Certain Laminated Floor Panels; Notice of Final Determination; Issuance of General Exclusion Order and Cease and Desist Orders; Termination of Investigation

AGENCY: U.S. International Trade Commission.

ACTION: Notice.

SUMMARY: Notice is hereby given that the U.S. International Trade Commission has found a violation of section 337 of the Tariff Act of 1930 (19 U.S.C. 337) based on the infringement of nine asserted claims of three asserted patents and has issued a general exclusion order and cease and desist orders in the above-captioned investigation. The investigation is terminated.

FOR FURTHER INFORMATION CONTACT: Michael Haldenstein, Office of the General Counsel, U.S. International Trade Commission, 500 E Street, SW., Washington, DC 20436, telephone (202) 205-3041. Copies of all nonconfidential documents filed in connection with this investigation are or will be available for inspection during official business hours (8:45 a.m. to 5:15 p.m.) in the Office of the Secretary, U.S. International Trade Commission, 500 E Street, SW., Washington, DC 20436, telephone 202-205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on 202-205-1810.

SUPPLEMENTARY INFORMATION: The Commission instituted this investigation on July 29, 2005, based on a complaint filed by Unilin Beheer B.V., Flooring Industries Ltd., and Unilin Flooring N.C. LLC (collectively “Unilin”). 70 FR 44694 (August 3, 2005). The complaint (as amended) alleged violations of section 337 of the Tariff Act of 1930 (“section 337”) in the importation into the United States, the sale for importation, and the sale within the United States after importation of certain laminated floor panels by reason of infringement of one or more of claims 1, 14, 17, 19, 20, 21, 37, 52, 65, and 66 of U.S. Patent No. 6,006,486 (“the ‘486 patent”), claims 1, 2, 10, 13, 18, 19, 22, 23, 24, and 27 of U.S. Patent No. 6,490,836 (“the ‘836 patent”), claims 1-6 of U.S. Patent No. 6,874,292 (“the ‘292 patent”), and claims 1, 5, 13, 17, 27, and 28 of U.S. Patent No. 6,928,779 (“the ‘779 patent”). The investigation was subsequently terminated with respect to the ‘486 patent. The Commission named as respondents 32 companies located in Canada, China, South Korea, Malaysia, and the United States. Id. Two respondents have been terminated from the investigation as a result of settlement agreements.

On July 3, 2006, the ALJ issued his final initial determination (“ID”), including his recommended determination on remedy and bonding. The complainants, the Commission investigative attorney (“IA”), and several respondents petitioned for review of various portions of the final ID.

On September 25, 2006, after considering the final ID, the written submissions and other relevant portions of the record, the Commission determined to review those portions of the ALJ's final ID concerning: (1) Construction of the “elastically bendable portion” limitation of claim 1 of the ‘836 patent and claim 4 of the ‘292 patent, (2) infringement of claims 1 and 2 of the '836 patent and claims 3 and 4 of the ‘292 patent; (3) infringement by the defaulting respondents; (4) invalidity of the asserted claims of the ‘779 patent; and (5) the validity of the asserted claims of the ‘836 and ‘292 patents to the extent implicated by the Commission's review described in item (1). The Commission received written submissions on the issues under review and on remedy, the public interest, and bonding.

Having examined the record in this investigation, including the submissions on review and responses thereto, the Commission has determined that there is a violation of section 337 with respect to claims 1, 2, 10, 18, and 23 of the ‘836 patent, claims 3 and 4 of the ‘292 patent, and claims 5 and 17 of the ‘779 patent.

The Commission has also made determinations on the issues of remedy, the public interest, and bonding. The Commission has determined that the appropriate form of relief is a general exclusion order prohibiting the unlicensed entry of laminated floor panels covered by claims 1, 2, 10, 18, and 23 of the ‘836 patent, claims 3 and 4 of the ‘292 patent, and claims 5 and 17 of the ‘779 patent. The Commission has also determined to issue cease and desist orders limited to claim 1 of the ‘836 patent and directed to defaulting domestic respondents Dalton Carpet Liquidators, Inc., Pacific Flooring Manufacture, Inc., P.J. Flooring Distributor, R.A.H. Carpet Supplies, Inc., Salvage Building Material, Inc., Stalheim (USA), Inc., Universal Floor Covering, Inc., and Vegas Laminate Hardwood Floors LLC.

The Commission has determined that the public interest factors enumerated in 19 U.S.C. 1337(d), (f), and (g) do not preclude issuance of the aforementioned remedial orders, and that the bond during the Presidential period of review shall be set at 100 percent of the entered value for any covered laminated floor panels.

The authority for the Commission's determinations is contained in section 337 of the Tariff Act of 1930, as amended (19 U.S.C. 1337), and in sections 210.45-210.51 of the Commission's Rules of Practice and Procedure (19 CFR 210.45-210.51).

By order of the Commission.
Issued: January 5, 2007.
Marilyn R. Abbott,
Secretary to the Commission.

[FR Doc. E7-190 Filed 1-9-07; 8:45 am]

BILLING CODE 7020-02-P